DEPARTMENT OF THE TREASURY

Customs Service

Privacy Act of 1974, as Amended; System of Records

AGENCY: Customs Service, Treasury.

ACTION: Notice of proposed Privacy Act systems of records.

SUMMARY: The Treasury Department, Customs Service, gives notice of a proposed addition to their systems of records which are subject to the Privacy Act of 1974, as amended, (5 U.S.C. 552a). The U.S. Customs Office of Human Resources (HRM) is implementing an electronic job application system. This computerized employment application processing system is designed to dramatically reduce the time spent in placing applicants into vacant positions.

DATES: Comments must be received no later than May 24, 2001. This new system of records will be effective June 4, 2001, unless comments are received which result in a contrary determination.

ADDRESSES: Comments (preferably in triplicate) may be submitted to the Office of Regulations and Rulings, Disclosure Law Branch, U.S. Customs Service, 1300 Pennsylvania Ave. NW., Washington, DC 20229. Comments will be available for inspection and copying at the Disclosure Law Branch, 1300 Pennsylvania Avenue, NW., Washington, DC.

FOR FURTHER INFORMATION CONTACT: Assistant Commissioner, Office of Human Resources, U.S. Customs Service, (202) 927-2900.

SUPPLEMENTARY INFORMATION: Currently, Human Resources Management (HRM) uses a combination of manual and automated systems for this purpose. However, the automated system (provided by the U.S. Office of Personnel Management) was developed to meet a set of generic government-wide requirements and does not offer sufficient flexibility to meet the changing needs of the Customs Service. These manual systems are extremely labor-intensive. HRM also requires an improved method of producing reports on information submitted by applicants in order to monitor the status and better evaluate the success of recruitment and selection efforts. The proposed system will accept applications through the Internet, in addition to hard copy application forms. The system will input, organize, rank and track thousands of applications, as well as store resume information for retrieval at a later date.

The new system of records report, as required by 5 U.S.C. 552a(r) of the Privacy Act, has been submitted to the Committee on Government Reform and Oversight of the House of Representatives, the Committee on Governmental Affairs of the Senate, and the Office of Management and Budget, pursuant to Appendix I to OMB Circular A-130, Federal Agency Responsibilities for Maintaining Records About Individuals, dated February 8, 1996.

The system notice is published in its entirety below.

Dated: April 16, 2001.
W. Earl Wright, Jr.,
Chief Management and Administrative Programs Officer.

Treasury/Customs .286

System Name:

Electronic Job Application Processing System-Treasury/Customs.

System Location:

Located in U.S. Customs Headquarters Offices, 1300 Pennsylvania Avenue, NW., Washington DC 20229 and at contractor's premises (contact the system administrator for the contractor address).

Categories of Individuals Covered in the System:

Individuals applying for job vacancies within the United States Customs Service.

Categories of Records in the System:

Vacancy announcements, applications, applicant resumes, certificates of eligibles, rating information, test data, interview results and answers to Knowledge, Skill and Ability questions. Applicant data includes but is not limited to, name, address, social security number (SSN) and date of birth (DOB).

Authority for Maintenance of the System:

5 U.S.C. 301; Treasury Department Order No. 165, Revised, as amended.

Purpose(s):

The purpose of this electronic system of records is to more efficiently acquire, process, rate and rank job applicants for positions with the U.S. Customs Service. This system should result in positions being filled more quickly with the most qualified applicant.

Routine Uses of Records Maintained in the System, Including Categories of Users, and the Purpose of Such Uses:

These records may be used to:

(1) Disclose pertinent information to appropriate Federal, State, local, or foreign agencies responsible for investigating or prosecuting the violations of, or for enforcing or implementing, a statute, rule, regulation, order, or license, where the disclosing agency becomes aware of an indication of a violation of civil or criminal law or regulation;

(2) Disclose information to a Federal, State, or local agency maintaining civil, criminal or other relevant enforcement information or other pertinent information relevant to the requesting agency's or the Customs Service's hiring or retention of an individual, or issuance of a security clearance, license, contract, grant or other benefit;

(3) Disclose information to a court, magistrate, or administrative tribunal in the course of presenting evidence, including disclosures to opposing counsel or witnesses in the course of civil discovery, litigation, or settlement negotiations, in response to a subpoena where relevant or potentially relevant to a proceeding, or in connection with criminal law proceedings;

(4) Provide information to third parties during the course of an investigation to the extent necessary to obtain information pertinent to an investigation;

(5) Disclose information to an agency contractor for the purpose of compiling, organizing, analyzing, programming, utilizing or otherwise refining records subject to the same limitations applicable to officers and employees of the U.S. Customs Service under the Privacy Act;

(6) Provide information to the National Archives and Records Administration for use in records management inspections conducted under authority of 44 U.S.C. 2904 and 2908;

(7) Disclose information to officials of the Merit Systems Protection Board, the Office of the Special Counsel, the Federal Labor Relations Authority, the Equal Employment Opportunity Commission, or the Office of Personnel Management when requested in performance of their authorized duties;

(8) Disclose information to a Congressional office in response to an inquiry made at the request of the individual to whom the record pertains, and

(9) Provide information to officials of labor organizations recognized under the Civil Service Reform Act when relevant and necessary to their duties of exclusive representation concerning personnel policies, practices, and matters affecting work conditions.

Policies And Practices For Storing, Retrieving, Accessing, Retaining, Disposing of Records in The System:

Storage:

Magnetic media.

Retrievability:

Records are indexed by name and Social Security Number.

Safeguards:

Records are accessed through Internet firewalls by authorized Customs employees through IRE Virtual Private Network (VRN) and a secure connection. The host servers are protected by controlled access procedures, which includes card key entry control and cipher locks.

Retention and Disposal:

Merit promotion case files are maintained for two years after the closing date of the announcement, or the final disposition of appeals, whichever is later in accordance with National Archives and Records Administration GRS-1.

System Manager(s) and Address:

Director, Staffing Policy, Office of Human Resources, U.S. Customs Service, 1300 Pennsylvania Ave., NW., Washington, DC 20229.

Notification Procedure:

See Customs Appendix A.

Record Access Procedure:

See Customs Appendix A.

Contesting Record Procedures:

See Customs Appendix A.

Record Source Categories:

Job applicants, and present and past employers, and other federal agencies.

Exemptions Claimed for the System:

None.

[FR Doc. 01-10127 Filed 4-23-01; 8:45 am]

BILLING CODE 4820-02-P